DEPARTMENT OF COMMERCE

National Oceanic and Atmospheric Administration

RIN 0648-XD250

Western Pacific Fishery Management Council (WPFMC); Public Meeting/Hearing

AGENCY: National Marine Fisheries Service (NMFS), National Oceanic and Atmospheric Administration (NOAA), Commerce.

ACTION: Notice of public meeting and hearing.

SUMMARY: The Western Pacific Fishery Management Council (Council) will hold a meeting of its American Samoa Regional Ecosystem Advisory Committee (REAC) to discuss fishery management issues in the Territory of American Samoa. Hearings to receive public input on the Council action to modify the boundaries of the American Samoa Large Pelagic Vessel Area closure (LPVA) will also be held.

DATES: A public hearing will be held at Sadies by the Sea Conference Room in Pago Pago on May 3, 2014. The American Samoa REAC meeting will be held in American Samoa in the village of Tafuna on May 5, 2014. See SUPPLEMENTARY INFORMATION for specific dates, times, and locations.

ADDRESSES: Written comments on this issue may be sent to Kitty M. Simonds, Executive Director, Western Pacific Fishery Management Council, 1164 Bishop St., Suite 1400, Honolulu, HI 96813. Comments may be sent to the Council via facsimile (fax) at (808) 522-8226.

FOR FURTHER INFORMATION CONTACT: Kitty M. Simonds, Executive Director, WPFMC, telephone: (808) 522-8220.

SUPPLEMENTARY INFORMATION:

Date, Time, and Location for Public Hearing and American Samoa REAC Meeting

• Pago Pago, American Samoa—Saturday, May 3, 2014, from 4 p.m. to 6 p.m., at the Sadies By The Sea Conference Room;

• Tafuna, American Samoa—Monday, May 5, 2014, from 9 a.m. to 1 p.m. at the Port Administration Airport Building, Tafuna International Airport, AS 96799;

4 to 6 p.m., May 3, 2014, Sadies by the Sea Conference Room

Modification to the Boundaries of the American Samoa Large Pelagic Vessel Area Closure.

At its 159th Meeting, the Western Pacific Regional Fishery Management Council directed staff to prepare an amendment to the Pelagics Fishery Ecosystem Plan to modify the LVPA and identify options to reduce, for a period of one year, the northern boundary of the LVPA around Tutuila, Manua, and Rose to 25 nautical miles and to reduce the LVPA around Swains to 12 nautical miles, as preliminarily preferred alternative. The purpose of this amendment is to provide a temporary increase in the area that can be fished by the large vessel segment of the American Samoa longline fleet such that competition between longline gears is reduced, albacore catch rates improved, and that there are reductions in the cost of longline trips, thus improving economic returns from the fishery. The need for this amendment is to promote the efficiency of the American Samoa longline fishery at a time when the fishery is experiencing difficulties in maintaining the economic viability of the fishery.

9 a.m. to 1 p.m., May 5, 2014, Port Administration Airport Building, Tafuna International Airport

1. Welcome and Introduction of Members

2. Report on Fishery Development Program

3. Report on Sanctuaries Program in American Samoa

4. Marine Conservation Plan

5. Modification to the Boundaries of the American Samoa Large Pelagic Vessel Area closure

6. Public Hearing

7. REAC Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 15, 2014.
Tracey L. Thompson,
Acting Deputy Director, Office of Sustainable Fisheries, National Marine Fisheries Service.

[FR Doc. 2014-08954 Filed 4-18-14; 8:45 am]

BILLING CODE 3510-22-P